DEPARTMENT OF COMMERCE

National Institute of Standards and Technology

Advanced Technology Program (ATP) Advisory Committee

AGENCY: National Institute of Standards and Technology, Department of Commerce.

ACTION: Notice of renewal.

In accordance with the provisions of the Federal Advisory Committee Act, 5 U.S.C. App. 2, and the General Services Administration (GSA) rule on Federal Advisory Committee Management, 41 CFR part 101-6, and after consultation with GSA, the Secretary of Commerce has determined that the renewal of the Advanced Technology Program Advisory Committee is in the public interest in connection with the performance of the duties imposed on the Department by law.

The Committee was first established in July 1999 to advise ATP regarding their programs, plans, and policies. During the next two years, the Committee is expected to provide advice on ATP programs, plans, and policies; review ATP's efforts to assess the economic impact of the program; and report on the general health of the program and its effectiveness in achieving its legislatively mandated mission.

The Committee will consist of 6 to 12 members to be appointed by the Director of the National Institute of Standards and Technology to assure a balanced membership that will reflect the wide diversity of technical disciplines and industrial sectors represented in ATP projects.

The Committee will function solely as an advisory body and in compliance with the provisions of the Federal Advisory Committee Act. Copies of the Committee's revised charter will be filed with the appropriate committees of the Congress and with the Library of Congress.

Inquiries or comments may be directed to Janet Brumby, Advanced Technology Program, National Institute of Standards and Technology, 100 Bureau Drive, Stop 4710, Gaithersburg, Maryland 20899-4710; telephone: 301-975-3189.

Dated: January 19, 2006.
William Jeffrey,
Director, NIST.

[FR Doc. E6-1047 Filed 1-26-06; 8:45 am]

BILLING CODE 3510-13-P